SECURITIES AND EXCHANGE COMMISSION

[OMB Control No. 3235-0064]

Agency Information Collection Activities; Submission for OMB Review; Comment Request; Extension: Exchange Act Form 10

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) has submitted to the Office of Management and Budget (“OMB”) this request for extension of the previously approved collection of information discussed below.

Form 10 (17 CFR 249.210) is used by issuers to register a class of securities pursuant to Section 12(b) or Section 12(g) (15 U.S.C. 78l(b) and 78l(g)) of the Securities Exchange Act of 1934. Form 10 requires financial information and other disclosures about matters such as the issuer's business, properties, identity and remuneration of management, outstanding securities, securities to be registered, and financial condition. The information collected on Form 10 is intended to ensure that investors in a class of Section 12-registered securities have sufficient information regarding such securities and their issuer necessary to make informed investment and voting decisions. The information required by Form 10 is mandatory, and Form 10 is publicly available on the Commission's Electronic Data Gathering, Analysis, and Retrieval (“EDGAR”) system. We estimate that Form 10 takes approximately 198.84 hours per response to prepare and is filed by an average of 104 respondents annually, once per year, for an average of 104 responses annually. We estimate that 25% of the 198.84 hours per response (49.71 hours) is carried internally by the issuer for an annual reporting burden of 5,170 hours (49.71 hours per response × 104 responses). We further estimate that 75% of the 198.84 hours per response (149.13 hours) is carried by outside professionals at a rate of $600 per hour for a total annual cost burden of $9,305,712 (149.13 hours per response × $600 per hour × 104 responses).

An agency may not conduct or sponsor, and a person is not required to respond to, a collection of information unless it displays a currently valid control number.

The public may view and comment on this information collection request at: https://www.reginfo.gov/public/do/PRAViewICR?ref_nbr=202506-3235-009 or send an email comment to MBX.OMB.OIRA.SEC_desk_officer@omb.eop.gov within 30 days of the day after publication of this notice by November 3, 2025.

Dated: September 26, 2025.
Sherry R. Haywood,
Assistant Secretary.

[FR Doc. 2025-19089 Filed 9-30-25; 8:45 am]

BILLING CODE 8011-01-P